DEPARTMENT OF TRANSPORTATION

Federal Railroad Administration

[Docket No. FRA-2000-7257, Notice No. 89]

Railroad Safety Advisory Committee; Notice of Meeting

AGENCY: Federal Railroad Administration (FRA), Department of Transportation (DOT).

ACTION: Notice of public meeting.

SUMMARY: FRA announces the fifty-ninth meeting of the Railroad Safety Advisory Committee (RSAC), a Federal Advisory Committee that develops railroad safety regulations through a consensus process.

DATES: The RSAC meeting is scheduled for Tuesday, November 26, 2019. The meeting will commence at 9:30 a.m., and will adjourn by 4:30 p.m. Requests to submit written materials to be reviewed during the meeting must be received no later than November 16, 2019. Requests for accommodations because of a disability must be received by November 16, 2019.

ADDRESSES: The RSAC meeting will be held at the National Association of Home Builders, located at 1201 15th Street NW, Washington, DC 20005. A final agenda will be posted on the RSAC internet website at https://rsac.fra.dot.gov/ at least one week in advance of the meeting. Please see the RSAC website for additional information on the committee at http://rsac.fra.dot.gov/.

FOR FURTHER INFORMATION CONTACT: Kenton Kilgore, RSAC Designated Federal Officer/RSAC Coordinator, FRA Office of Railroad Safety, (202) 493-6286; or Larry Woolverton, Executive Officer, FRA Office of Railroad Safety, (202) 493-6212.

SUPPLEMENTARY INFORMATION: Pursuant to Section 10(a)(2) of the Federal Advisory Committee Act (Pub. L. 92-463), FRA is giving notice of a meeting of the RSAC. The RSAC is composed of 40 voting representatives from 29 member organizations, representing various rail industry perspectives. The diversity of the Committee ensures the requisite range of views and expertise necessary to discharge its responsibilities.

Public Participation: The meeting is open to the public on a first-come, first-served basis, and is accessible to individuals with disabilities. Any member of the public may present a written statement to the committee at any time. The U.S. Department of Transportation and the Federal Railroad Administration are committed to providing equal access to this meeting for all participants. If you need alternative formats or services because of a disability, please contact either of the individuals listed in the FOR FURTHER INFORMATION CONTACT section no later than November 16, 2019.

Agenda Summary: The RSAC meeting topics will include opening remarks from the FRA Administrator, as well as an update on the railroad industry's implementation of positive train control (PTC). FRA will present to the Committee reports from the Working Groups for: Tourist and Historic Railroads; Track Standards; Passenger Safety; Part 225 Accident Reporting; Train Dispatcher Certification; and Signal Employees Certification. This agenda is subject to change.

Issued in Washington, DC.
Ronald L. Batory,
Administrator.

[FR Doc. 2019-23538 Filed 10-28-19; 8:45 am]

BILLING CODE 4910-06-P